SECURITIES AND EXCHANGE COMMISSION

Sunshine Act Meeting

Federal Register Citation of Previous Announcement: [66 FR 1524, January 11, 2002]

Status: Closed meeting.

Place: 450 Fifth Street, NW., Washington, DC.

Date and Time of Previously Announced Meeting: Tuesday, January 15, 2002 at 10:00 a.m.

Change in the Meeting: Time Change.

The closed meeting scheduled for Tuesday, January 15, 2002 at 10:00 a.m. has been changed to Tuesday, January 15, 2002 at 9:00 a.m.

Dated: January 11, 2002.
Jonathan G. Katz,
Secretary,

[FR Doc. 02-1094 Filed 1-11-02; 11:45 am]

BILLING CODE 8010-01-M